ENVIRONMENTAL PROTECTION AGENCY

[FRL-7410-2]

Notice of the Ninth Meeting of the Mississippi River/Gulf of Mexico Watershed Nutrient Task Force

AGENCY: Environmental Protection Agency (EPA).

ACTION: Notice of meeting.

SUMMARY: This notice announces the Ninth Meeting of the Mississippi River/Gulf of Mexico Watershed Nutrient Task Force. The purpose of this Task Force, consisting of Federal, State, and Tribal members, is to lead efforts to coordinate and support nutrient management and hypoxia-related activities in the Mississippi River and Gulf of Mexico watersheds. The major matter to be discussed at the meeting is implementation of the Action Plan for Reducing, Mitigating, and Controlling Hypoxia in the Northern Gulf of Mexico. The Action Plan was developed in fulfillment of a requirement of section 604(b) of the Harmful Algal Blooms and Hypoxia Research Control Act (Pub. L. 105-383—Coast Guard Authorization Act of 1998) to submit a scientific assessment of hypoxia and a plan for reducing, mitigating, and controlling hypoxia in the Gulf of Mexico. The Action Plan was submitted as a Report to Congress on January 18, 2001. Also, a summary will be provided of the Monitoring, Modeling, and Research subworkgroup meeting, held October 16-18, 2002 in St. Louis. The public will be afforded an opportunity to provide input to the Task Force during open discussion periods.

DATES: The one day meeting will be held from 9:30 a.m.-4:30 p.m., Tuesday, December 10, 2002 in Washington, DC.

ADDRESSES: Please see the Web site http://www.epa.gov/msbasin/new.htm for registration, specific meeting location, and hotel information. The meeting room accommodates approximately 125 people, therefore, registration is required. A registration form can be downloaded from the Web site.

FOR FURTHER INFORMATION CONTACT: Katie Flahive, U.S. EPA, Assessment and Watershed Protection Division (AWPD), Mail Code 4503T, 1200 Pennsylvania Avenue, NW., Washington, DC 20460; Phone (202)-566-1206; E-mail: flahive.katie@epa.gov. For additional information on logistics, registration, and accommodations, contact Ansu John, Tetra Tech, Inc., 10306 Eaton Place, Suite 340, Fairfax, VA 22030; Phone: (703) 385-6000; E-mail: ansu.john@tetratech-ffx.com.

Dated: November 13, 2002.
Robert H. Wayland III,
Director, Office of Wetlands, Oceans, and Watersheds.

[FR Doc. 02-29336 Filed 11-18-02; 8:45 am]

BILLING CODE 6560-50-P